DEPARTMENT OF ENERGY

Federal Energy Regulatory Commission

[Docket No. OR02-9-000]

Chevron Products Company, Complainant v. CalNev Pipe Line, L.L.C., Respondent; Notice of Complaint

April 30, 2002.

Take notice that on April 26, 2002, Chevron Products Company (hereinafter referred to as Complainant) filed a complaint alleging that the rates of CalNev Pipe Line, L.L.C. (CalNev) subject to the jurisdiction of the Federal Energy Regulatory Commission are not just and reasonable.

According to Complainant, the overcharges are 22.8 percent in excess of the claimed just and reasonable return claimed by CalNev in its year 2000 interstate cost of service.

Complainant further alleges that the rate are not subject to the threshold “changed circumstances” standard pursuant to the Energy Policy Act of 1992.

Complainant alleges that it is aggrieved and damaged by the acts of CalNev Pipe Line LLC and seeks relief in the form of reduced rates in the future and reparations for past and current overcharges for transportation and terminalling, with interest.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before May 16, 2002. Protests will be considered by the Commission in determining the appropriate action to be taken, but will not serve to make protestants parties to the proceeding. Any person wishing to become a party must file a motion to intervene. Answers to the complaint shall also be due on or before May 16, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's Web site under the “e-Filing” link.

Magalie R. Salas,
Secretary.

[FR Doc. 02-11144 Filed 5-3-02; 8:45 am]

BILLING CODE 6717-01-P